FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 6, 2012.

A. Federal Reserve Bank of St. Louis (Glenda Wilson, Community Affairs Officer) P.O. Box 442, St. Louis, Missouri 63166-2034:

1. Lynne Deweese and V.J. Hales as co-trustees of The Hales Survivor's Trust, individually and with Randy Deweese, Lynne Deweese, V.J. Hales, Jason Schwartz, Kimberly Schwartz, Andrea Williford, Michael Williford, and Dallas Williford, all of Clinton, Kentucky; all as members of The Hales Family Control Group; to gain control of First Trust Financial Corporation, and thereby indirectly gain control of First Community Bank of Western Kentucky, Inc., both in Clinton, Kentucky.

Board of Governors of the Federal Reserve System, July 17, 2012.
Margaret McCloskey Shanks,
Associate Secretary of the Board.

[FR Doc. 2012-17692 Filed 7-19-12; 8:45 am]

BILLING CODE 6210-01-P